DEPARTMENT OF COMMERCE

Census Bureau

[Docket Number 220519-0117]

Change to County-Equivalents in the State of Connecticut

AGENCY: Census Bureau, Commerce.

ACTION: Notice.

SUMMARY: This notice provides information about the State of Connecticut's (hereafter Connecticut or the State) formal request to the Census Bureau to adopt the State's nine planning regions as county-equivalent geographic units for purposes of collecting, tabulating, and disseminating statistical data, replacing the eight counties which ceased to function as governmental and administrative entities in 1960. The Census Bureau will implement this change internally in 2022, with public data and geospatial products reflecting the change beginning in late 2022. By 2024, all Census Bureau operations and publications, both internal and external, will use the nine new county-equivalent boundaries, names, and codes, except for 2020 Decennial Census data publications and other datasets referencing the eight legacy counties as published before June 1, 2022.

FOR FURTHER INFORMATION CONTACT: Requests for additional information on this notice should be directed to Rikki Wortham: geo.geography@census.gov. Phone: 812-218-3973.

SUPPLEMENTARY INFORMATION: Officials with the Connecticut Office of Policy and Management contacted the Census Bureau in October 2017 regarding the possibility of replacing the State's eight counties with the State's nine planning regions for purposes of collecting, tabulating, and disseminating statistical data. This notice provides information about Connecticut's formal request to the Census Bureau to adopt the State's nine planning regions, representing their councils of governments (COGs), designated under Section 16a-4a (4) of the Connecticut General Statutes, as the county-equivalent geographic unit for purposes of collecting, tabulating, and disseminating statistical and geospatial data. This notice also serves as a final response to all comments received to the proposed notice published in the Federal Register on December 14, 2020 (85 FR 80766).

The Census Bureau is publishing this notice in consultation with Connecticut to inform county-level data users of the decision to implement the change and to request that all stakeholders begin preparation for the mitigation of any potential impacts. Other federal agencies may have their own operational uses for the legacy boundaries, names, codes, or related geospatial data; however, specific guidance on these matters is out of scope for this notice.

All agencies, stakeholders, and data users are urged to review their own operations and procedures to prepare for the change and assess any impacts. The Census Bureau will continue to maintain the boundaries, names, and codes of the eight nonfunctioning legacy counties as recorded by the International Committee for Information Technology Standards (INCITS) (formerly Federal Information Processing Standard (FIPS)) Codes, but they will no longer be recognized as valid and current for future Census Bureau programs, products, and publications after June 2022. Previously published data and geospatial products will continue to reflect the boundaries, names, and codes of the legacy counties in effect at the time of publication and can be used as a reference for research and operational needs.

This notice is Census Bureau's final announcement that Connecticut's request will be implemented and urges all stakeholders to immediately prepare for any impacts related to the adoption of planning regions as county-equivalents on data collection; data analysis; data dissemination; planning and decision making; and program implementation. The Census Bureau suggests that stakeholders: (1) establish plans for updating or replacing data collection and tabulation programs or nonstatistical programs that will not be able to implement this change; (2) establish plans to accommodate a substantial break in data continuity if longitudinal analyses are no longer possible; and (3) identify specific programs and other uses of county-level information that will require county name, code, and boundary updates.

13 U.S.C. 181 requires that the Secretary of Commerce “annually produce and publish for each State, county, and local unit of general-purpose government which has a population of fifty thousand or more, current data on total population and population characteristics and, to the extent feasible, . . . biennially produce and publish for other local units of general-purpose government current data on total population.” 13 U.S.C. 183 further requires that with the exception of laws which provide that only population or population characteristics data obtained in the most recent decennial census may be used, that “. . . for the purpose of administering any law of the United States in which population or other population characteristics are used to determine the amount of benefit received by State, county, or local units of general-purpose government, the Secretary shall transmit to the President for use by the appropriate departments and agencies of the executive branch the data most recently produced and published under this title.” To meet these statutory requirements, the Census Bureau must, to the best of its ability use the most current, accurate, and up to date geographic boundaries for States, counties, and local units of general-purpose government.

The Census Bureau strives to provide statistical data for geographic areas that are meaningful and relevant for analysis and decision-making. In Connecticut, the nine COGs exist to address matters of mutual interest to their constituent cities and towns, with each member city and town represented by its highest elected official. They function as regional planning organizations, coordinating activities for their constituent cities and towns, and in that capacity can exercise a variety of responsibilities typically undertaken by counties in other states. Being that Connecticut's counties ceased to function as governmental and administrative entities in 1960, the planning regions are more meaningful and relevant areas for tabulation and dissemination of statistical data within the State, as well as for regional and national county comparisons, than are the eight legacy counties.

The Census Bureau believes, given the substantial length of time that has elapsed since the dissolution of Connecticut's counties with no functioning governmental alternatives having been put into place, it is appropriate to accept the adoption of these nine county-equivalent entities and their associated boundaries, codes, and names for spatial representation and publication of statistical data at the county level of the Census Bureau's geographic hierarchy. This decision was made without regard to similar circumstances that may exist in other states and is narrowly focused on this unique situation in Connecticut. Therefore, it should not be taken as a precedent for other situations that may currently exist or arise later.

The Census Bureau will implement this change in early 2022 and use the new county-equivalents when reporting all statistical data and geospatial data referenced to 2022 and all years thereafter.

Background

Although Connecticut's eight counties have long provided stable geographic units for reporting statistical data, they have not served as functional governmental and administrative entities since county government in the state was abolished in 1960. The State's nine COGs function as regional planning organizations, coordinating activities for their constituent cities and towns (note, however, that in some instances the name of the planning region differs from that of its COG). As such, planning regions provide a more meaningful geographic unit for reporting data since the data would be aligned with the collection of municipalities (i.e., cities and towns) that constitute the governance framework for each COG. Each municipality within a designated planning region is entitled to membership in the region's COG upon adoption of an ordinance by its legislative body. The highest elected official of each member municipality is then provided a vote on all COG matters. By reporting statistical data for COGs, member municipalities will be in a better position to plan collaboratively and act strategically on the efficient delivery of services, bulk purchasing, and other matters of practical interest.

While COGs do not have the authority to levy taxes, they are authorized under State law to assess dues on their member municipalities, to accept other sources of public and private assistance for the purpose of providing regional and shared services, and to administer a regional property tax base revenue sharing system if approved by a unanimous vote of its member municipalities. In this regard, as well as the ability to provide the variety of services listed below, Connecticut's COGs and associated planning regions have the authority to carry out administrative functions that are typically found in county governments in other states. Section 8-31b(b) of the Connecticut General Statutes states that:

Regional services provided to member municipalities shall be determined by each regional council of governments . . . and may include, without limitation, the following services: (1) Engineering; (2) inspectional and planning; (3) economic development; (4) public safety; (5) emergency management; (6) animal control; (7) land use management; (8) tourism promotion; (9) social; (10) health; (11) education; (12) data management; (13) regional sewerage; (14) housing; (15) computerized mapping; (16) household hazardous waste collection; (17) recycling; (18) public facility siting; (19) coordination of master planning; (20) vocational training and development; (21) solid waste disposal; (22) fire protection; (23) regional resource protection; (24) regional impact studies; and (25) transportation.

In the same section, the COGs are authorized to “accept or participate in any grant, donation, or program made available to counties by any other governmental or private entity.”

Scope of Change

Adoption of the nine planning regions as county-equivalents applies to the collection, tabulation, and dissemination of Census Bureau statistical and geospatial data for Connecticut. The Census Bureau proposes to implement this change internally in early 2022, and will use the resulting county-equivalent planning regions in all of its programs that collect, tabulate, and disseminate demographic or economic data, such as: the American Community Survey (ACS); the intercensal Population Estimates Program (PEP); Small Area Income and Poverty Estimates (SAIPE) Program; the Economic Census; County Business Patterns; the Longitudinal Employer-Household Dynamics Program; the 2030 Decennial Census; and all other future Census Bureau operations. While other federal agencies are encouraged to adopt Connecticut's planning regions as county-equivalents for use in their statistical and non-statistical programs, the Census Bureau does not have the authority to require such a change. Nevertheless, adoption of planning regions as county-equivalents will assure comparability of data produced by all federal agencies as well as comparability between statistical and non-statistical programs.

Transitioning From Counties to Planning Regions

Relationship Between Counties and Planning Regions

Although the planning regions and counties do not align, there is substantial overlap, to the extent that one can discern the relationships between individual planning regions and counties. Figure 1 depicts the relationship between Connecticut's eight counties and its nine planning regions.

The closest relationship is between Middlesex County and Lower Connecticut River Valley Planning Region, with all 15 of the cities and towns within the county also located within the planning region (which also contains two towns located in New London County).

Cities and towns are the constituent governments within each COG/planning region. As such, data for cities and towns can be aggregated to planning regions, facilitating reconstruction of time series data and longitudinal analysis. Table 1 provides the 2020 Census population and housing for each planning region, based on aggregated data previously published for constituent cities and towns.

Table 1—Planning Region: 2020 Population and Housing
Planning region | 2020 Census population count | 2020 Census housing count
Capitol | 976,248 | 414,084
Greater Bridgeport | 325,778 | 125,332
Lower Connecticut River Valley | 174,225 | 82,497
Naugatuck Valley | 450,376 | 191,376
Northeastern Connecticut | 95,348 | 41,439
Northwest Hills | 112,503 | 55,478
South Central Connecticut | 570,487 | 246,044
Southeastern Connecticut | 280,430 | 125,183
Western Connecticut | 620,549 | 248,764

Using the distribution of cities and towns within counties and planning regions as a guide, data users can use crosswalk relationship files between counties and planning regions, to build longitudinal datasets or make approximate comparisons as depicted in Table 2 below.

Table 2—Counties-to-Planning Regions Approximation
County | 2020 Census population count | Planning region | 2020 Census population count
|  | Greater Bridgeport | 325,778
Fairfield | 957,419 | Western Connecticut | 620,549
Hartford | 899,498 |  |
Tolland | 149,788 | Capitol | 976,248
Litchfield | 185,186 | Northwest Hills | 112,503
Middlesex | 164,245 | Lower Connecticut River Valley | 174,225
|  | Naugatuck Valley | 450,376
New Haven | 864,835 | South Central Connecticut | 570,487
New London | 268,555 | Southeastern Connecticut | 280,430
Windham | 116,418 | Northeastern Connecticut | 95,348

To assist with the transition from counties to planning regions and the development of longitudinal data for the new county-equivalents, the Census Bureau will produce and make available reference files identifying the cities and towns that constitute each planning region, and reference files identifying the relationships between various sub-state and sub-county geographic areas and the planning regions. This will facilitate aggregation of data from Census Bureau programs that collect, tabulate, and disseminate data for cities and towns in Connecticut. These files will be posted at the Census Bureau website titled “Substantial Changes to Counties and County-Equivalent Entities: 1970-Present” and will include detailed information about the updates referenced in this notice.

Upon adoption of this change, the Census Bureau will include planning regions in all geospatial data products, including TIGER/Line Shapefiles, TIGER/Line Geodatabases, cartographic boundary files, and mapping services. The INCITS 31 Codes and National Standard (NS) (specifically INCITS 446) Codes for the eight counties will be retired from current and future Census Bureau products and used only within the context of data referencing the counties in Connecticut as published before 2022, see Table 3 below.

Table 3—Legacy County Names and INCITS (Formerly FIPS) Codes
Name | INCITS 38 state + INCITS 31 county code ¹ | National standard county code ²
Fairfield County | 09001 | 00212794
Hartford County | 09003 | 00212338
Litchfield County | 09005 | 00212796
Middlesex County | 09007 | 00212797
New Haven County | 09009 | 00212798
New London County | 09011 | 00212799
Tolland County | 09013 | 00212668
Windham County | 09015 | 00212801

Each planning region has been assigned a new three-digit INCITS 31 Code, starting with 110, and continuing in alphanumeric order by name (Table 4).³ Each planning region has also been assigned a new eight-digit National Standard (NS) Code as included in the U.S. Board on Geographic Names' (BGN's) Geographic Names Information System (GNIS). These new codes and other attribute codes will be included in Census Bureau geographic reference products after this change is implemented.

¹ To make the 3-digit county codes (INCITS 31) nationally unique, they need to be combined/concatenated with the 2-digit state codes (INCITS 38) as the prefix.

² National Standard Codes included in Census Bureau products are 8-digit INCITS 446 Codes stored and maintained by the U.S. Geological Survey (USGS) on behalf of the U.S. BGN in the GNIS.

³ The codes in this notice do not match the codes listed in the proposed notice issued on December 14, 2020, in the Federal Register(85 FR 80766). After issuing the proposal, it was determined that a distinct break in the INCITS 31 (formerly FIPS 6) Code series would more clearly demarcate the new county-equivalent planning regions from the legacy counties and indicate the significant change in county-level geographic representation.

Table 4—Planning Region Names and INCITS (Formerly FIPS) Codes
Name | INCITS 38 state + INCITS 31 county code | National standard county code
Capitol Planning Region | 09110 | 02830244
Greater Bridgeport Planning Region | 09120 | 02830245
Lower Connecticut River Valley Planning Region | 09130 | 02830246
Naugatuck Valley Planning Region | 09140 | 02830249
Northeastern Connecticut Planning Region | 09150 | 02830250
Northwest Hills Planning Region | 09160 | 02830251
South Central Connecticut Planning Region | 09170 | 02830252
Southeastern Connecticut Planning Region | 09180 | 02830253
Western Connecticut Planning Region | 09190 | 02830254

Relationship to Other Statistical Geographic Entities

The Census Bureau accounted for the change from counties to planning regions when implementing the Participant Statistical Areas Program (PSAP) for the 2020 Census, the program in which the Census Bureau works with local officials to review and update block groups and census tracts. The planning regions were the official PSAP participants in Connecticut for both the 2010 and 2020 censuses, thus ensuring that census tracts and block groups generally aligned with city and town boundaries, facilitating transition to the new county-equivalents. The Census Bureau further reviewed block group and census tract boundaries for the 2020 Census to ensure alignment with planning region boundaries. As a result, the change to county-equivalents in Connecticut will not affect block group and census tract boundaries. Both types of entities will nest within planning region boundaries.

The adoption of planning regions as county-equivalents will affect the current and future delineations of Metropolitan and Micropolitan Statistical Areas as well as Combined Statistical Areas by the Office of Management and Budget. Current New England City and Town Areas (NECTAs) and combined NECTAs are not affected by this change.

Timeline

Officials with Connecticut's Office of Policy and Management contacted the Census Bureau in October 2017 regarding the process they should follow to adopt the State's nine planning regions as county-equivalents. At that time, Census Bureau staff advised that officials first obtain broad data user support throughout the State, including other State agencies, the State Data Center, as well as the planning regions. Table 5 below highlights important milestones of the process leading to the publication of this notice. Once broad support for the change was achieved, a formal request addressed to the Census Bureau's Director was needed for the Census Bureau to take formal steps toward adoption of the nine planning regions as county-equivalents. The State's initial formal request was received by the Census Bureau in August 2019. The State also submitted a letter of support from the Connecticut Data Collaborative/State Data Center attesting to the importance and value of data for planning regions to analysts, decision makers, and other data users throughout Connecticut as well as broad support for the change among data users throughout the State. In addition, members of Connecticut's Congressional delegation, chairs of each of the State's nine COGs, and officials from the Connecticut Conference of Municipalities, Council of Small Towns, and the Advisory Commission on Intergovernmental Relations were copied on the State's letter to the Census Bureau. The Census Bureau held a meeting with Connecticut State and local government officials, State agency staff, and COG chairs in April 2020 to provide an update on outreach regarding the proposed change where meeting participants reiterated the importance of, and support for, adoption of the State's nine planning regions as county-equivalents.

The Census Bureau began outreach to other federal agencies and data users regarding this change in October 2019, following Connecticut's formal request to begin the process of replacing its eight counties with the nine planning regions. The Census Bureau published a notice in the Federal Register on December 14, 2020 (85 FR 80766) requesting comments on the proposed program change. The Census Bureau has held seven briefings for staff of federal agencies: one for the Interagency Council on Statistical Policy; two organized by the Federal Committee on Statistical Methodology—Geospatial Interest Group; two specifically for Department of Housing and Urban Development staff, including staff managing the Community Development Block Grant and other funding allocation programs; one specifically for Bureau of Labor Statistics staff; and one organized by the U.S. Department of Transportation attended by federal, State, and local transportation planners.

Summary of Comments Received in Response to Proposed Changes

The Census Bureau received eight comments in total in response to the notice on the proposal published in the Federal Register on December 14, 2020 (85 FR 80766). Six of the comments expressed support for the change. One comment suggested a change from the county code assignments published in Table 4 of the proposed notice to the county code assignment which was adopted for this final notice. The final comment focused on questions regarding state-level decisions and was referred to Connecticut executive stakeholders to provide a response.

Following completion of the formal period of comment associated with the proposal in the December 14, 2020 Federal Register Notice (85 FR 80766), the Census Bureau, in consultation with Connecticut government officials, reviewed the comments received to determine if there were valid reasons to revisit the proposed plan. With none being noted, Connecticut reached the final decision in December 2021 to move forward with the implementation of the nine planning regions as county-equivalents in Census Bureau publications. This Notice serves as the Census Bureau's final formal announcement of intent to immediately implement the changes detailed herein.

The Census Bureau continued to conduct additional outreach after the official comment period for the proposal in the Federal Register Notice closed on February 12, 2021. From March 2021 to February 2022 the Census Bureau held meetings with DHS (Department of Homeland Security) and two of its components, FEMA (Federal Emergency Management Agency) and the Office of Infrastructure within NPPD (the National Protection and Program Directorate); the Department of Interior and its component agency, the U.S. Geological Survey, including USGS's National Geospatial Program Office; the Department of Agriculture; the Department of Defense Office of the Assistant Secretary of Defense for Homeland Defense and Americas' Security Affairs; and, two other Commerce Department bureaus, NOAA (National Oceanic and Atmospheric Administration—including the National Weather Service) and BEA (Bureau of Economic Affairs).

Table 5—Timeline of Activities
Activity | Dates
Officials from the State of Connecticut's Office of Policy and Management contact Census Bureau regarding proposed adoption of planning regions as county-equivalents | October 2017.
Connecticut Office of Policy and Management staff conduct outreach at the State-level to obtain consensus for change | November 2017-March 2019.
Formal request from the State of Connecticut to the Census Bureau's Director regarding adoption of planning regions as county-equivalents | August 2019.
Census Bureau outreach to federal agencies and other data users | September 2019-present
Federal Register Notice announcing the Census Bureau's proposed implementation of the change in county-equivalents | December 14, 2020.
Census Bureau receives final decision from Connecticut to move forward with the changes | December 1, 2021.
Census Bureau, in consultation with the State of Connecticut, issues final decision regarding adoption of planning regions as county-equivalents | Spring 2022.

Robert L. Santos, Director, Census Bureau, approved the publication of this Notice in the Federal Register.

Dated: May 31, 2022.
Mary Reuling Lenaiyasa,
Program Manager, Paperwork Reduction Act, Policy Coordination Office, Census Bureau.

[FR Doc. 2022-12063 Filed 6-3-22; 8:45 am]

BILLING CODE 3510-07-P